DEPARTMENT OF TRANSPORTATION

Federal Aviation Administration

14 CFR Part 39

[Docket No. FAA-2022-0506; Project Identifier MCAI-2022-00507-G; Amendment 39-22037; AD 2022-09-17]

RIN 2120-AA64

Airworthiness Directives; Scheibe-Aircraft-GmbH Gliders

AGENCY: Federal Aviation Administration (FAA), DOT.

ACTION: Final rule; request for comments.

SUMMARY: The FAA is adopting a new airworthiness directive (AD) for certain Scheibe-Aircraft-GmbH Model SF 25 C gliders. This AD was prompted by mandatory continuing airworthiness information (MCAI) issued by the aviation authority of another country to identify and correct an unsafe condition on an aviation product. The MCAI identifies the unsafe condition as severe corrosion on the inner surface of the control stick tube. This AD requires inspecting the left-hand (LH) and right-hand (RH) control sticks for corrosion and, if corrosion is found, replacing the affected control stick. The FAA is issuing this AD to address the unsafe condition on these products.

DATES: This AD is effective May 23, 2022.

The Director of the Federal Register approved the incorporation by reference of a certain publication listed in this AD as of May 23, 2022.

The FAA must receive comments on this AD by June 21, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Scheibe Aircraft GmbH, Am Flugplatz 5, Heubach, D-73540, Germany; phone: +49 07173 184286; email: info@scheibe-aircraft.de; website: https://scheibe-aircraft.de/. You may view this service information at the FAA, Airworthiness Products Section, Operational Safety Branch, 901 Locust, Kansas City, MO 64106. For information on the availability of this material at the FAA, call (817) 222-5110. It is also available at https://www.regulations.gov by searching for and locating Docket No. FAA-2022-0506.

Examining the AD Docket

You may examine the AD docket at https://www.regulations.gov by searching for and locating Docket No. FAA-2022-0506; or in person at Docket Operations between 9 a.m. and 5 p.m., Monday through Friday, except Federal holidays. The AD docket contains this final rule, the MCAI, any comments received, and other information. The street address for the Docket Operations is listed above.

FOR FURTHER INFORMATION CONTACT: Jim Rutherford, Aviation Safety Engineer, General Aviation & Rotorcraft Section, International Validation Branch, FAA, 901 Locust, Room 301, Kansas City, MO 64106; phone: (816) 329-4165; email: jim.rutherford@faa.gov.

SUPPLEMENTARY INFORMATION:

Background

The European Union Aviation Safety Agency (EASA), which is the Technical Agent for the Member States of the European Union, has issued EASA Emergency AD 2022-0066-E, dated April 11, 2022 (referred to after this as “the MCAI”), to address an unsafe condition on Scheibe-Aircraft-GmbH (formerly Sportavia-Pützer GmbH & Co. KG and Scheibe Flugzeugbau GmbH) Model SF 25-series sailplanes (gliders). The MCAI states:

An occurrence was reported of finding fracture in a RH control stick of a powered sailplane, located above the weld seam at the transfer joint. Subsequent investigation determined that the fracture was a result of severe corrosion phenomena affecting the inner surface of the control stick tube due to water ingress.

This condition, if not detected and corrected, could lead to a rupture of an affected part, possibly resulting in reduced control, or loss of control, of the powered sailplane.

To address this unsafe condition, Scheibe issued the original issue of [service bulletin] TM/SB 653-96 to provide inspection and replacement instructions.

Consequently, EASA issued Emergency AD 2022-0043-E (later revised) to require repetitive inspections of each affected part to detect corrosion and replacement of each affected part with a serviceable part.

Since EASA AD 2022-0043R1 was issued, it was identified that powered sailplanes on which Scheibe mod[ification] 653C-41-S10.1 is embodied are also affected by this unsafe condition.

For the reason described above, this [EASA] AD retains the requirements of EASA AD 2022-0043R1, which is superseded, and expands the Applicability.

You may examine the MCAI in the AD docket at https://www.regulations.gov by searching for and locating Docket No. FAA-2022-0506.

FAA's Determination

The FAA is issuing this AD because the agency has determined the unsafe condition described previously is likely to exist or develop in other products of the same type design.

Related Service Information Under 1 CFR Part 51

The FAA reviewed Scheibe Aircraft GmbH Service Bulletin 653-96/1, dated April 4, 2022. This service information specifies procedures for repetitive inspections for corrosion on the LH and RH control sticks and replacement instructions for when corrosion is found. This service information is reasonably available because the interested parties have access to it through their normal course of business or by the means identified in ADDRESSES.

Other Related Service Information

The FAA also reviewed Scheibe Aircraft GmbH Service Bulletin 653-96, dated March 2, 2022. This service information specifies procedures for repetitive inspections for corrosion on the LH and RH control sticks and replacement instructions for when corrosion is found.

FAA's Determination

This product has been approved by the aviation authority of another country, and is approved for operation in the United States. Pursuant to the FAA's bilateral agreement with this State of Design Authority, it has notified the FAA of the unsafe condition described in the MCAI and service information referenced above. The FAA is issuing this AD because it has determined the unsafe condition described previously is likely to exist or develop on other products of the same type design.

AD Requirements

This AD requires accomplishing the actions specified in the service information already described, except as discussed under “Differences Between this AD and the MCAI.”

Differences Between This AD and the MCAI

The MCAI applies to serial numbers (S/N) 44147 through S/N 44159 inclusive, and this AD does not because those gliders are not eligible for import into the United States.

The MCAI applies to Model SF 25 E and SF 25 K gliders, and this AD does not because they do not have an FAA type certificate.

The MCAI allows for a 30-day compliance time tolerance for the repetitive inspections to coincide with other maintenance tasks, and this AD does not.

The MCAI allows the pilot-owner to do the inspections, and this AD does not.

The MCAI specifies a 20-month modification requirement. The FAA is considering requiring this modification; however, the planned compliance time for this modification would allow enough time to provide notice and opportunity for prior public comment on the merits of this modification. The FAA may require that modification in a future AD action.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies waiving notice and comment prior to adoption of this rule because the amount of time moisture has accumulated in the control sticks and caused corrosion to develop is unknown. Therefore, the initial inspection must be accomplished before further flight. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2022-0506 and Project Identifier MCAI-2022-00507-G” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Jim Rutherford, Aviation Safety Engineer, General Aviation & Rotorcraft Section, International Validation Branch, FAA, 901 Locust, Room 301, Kansas City, MO 64106. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 1 glider of U.S. registry.

The FAA estimates the following costs to comply with this AD:

Estimated Costs
Action | Labor cost | Parts cost | Cost per glider | Cost on U.S. operators
Inspect LH and RH control sticks | 4 work-hours × $85 per hour = $340 | Not Applicable | $340 | $340

The FAA estimates the following costs to replace a single control stick, if required based on the results of the inspection:

On-Condition Costs
Action | Labor cost | Parts cost | Cost per glider
Replace single control stick | 4 work-hours × $85 per hour = $340 | $500 | $840

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-09-17 Scheibe-Aircraft-GmbH: Amendment 39-22037; Docket No. FAA-2022-0506; Project Identifier MCAI-2022-00507-G.

(a) Effective Date

This airworthiness directive (AD) is effective May 23, 2022.

(b) Affected ADs

None.

(c) Applicability

This AD applies to Scheibe-Aircraft-GmbH Model SF 25 C gliders, certificated in any category, that have Scheibe Modification 653E.41-S10 or 653C-41-S10.1 installed.

(d) Subject

Joint Aircraft System Component (JASC) Code 2700, Flight Control System.

(e) Unsafe Condition

This AD was prompted by mandatory continuing airworthiness information (MCAI) originated by an aviation authority of another country to identify and correct an unsafe condition on an aviation product. The MCAI identifies the unsafe condition as severe corrosion on the inner surface of the control stick tube. The FAA is issuing this AD to detect corrosion on the left-hand (LH) and right-hand (RH) control sticks, which, if not corrected, could lead to failure of the control stick tube and loss of control of the glider.

(f) Compliance

Comply with this AD within the compliance times specified, unless already done.

(g) Inspection and Replacement

(1) Before further flight after the effective date of this AD and thereafter at intervals not to exceed 12 months or 100 hours time-in-service, whichever occurs first, inspect all control sticks (other than part number (P/N) 20093, P/N 20093/G, P/N 20094, and P/N 20094/G) for corrosion by following Action 1, step 1.4, in Scheibe Aircraft GmbH Service Bulletin 653-96/1, dated April 4, 2022 (SB 653-96/1), except you may use a borescope instead of an endoscope. If there is any corrosion, before further flight, replace the affected control stick with a LH control stick P/N 20093 or P/N 20093/G; or a RH control stick P/N 20094 or P/N 20094/G by following Action 3 (all steps) in SB 653-96/1.

(2) Replacing a control stick with LH control stick P/N 20093 or P/N 20093/G; or RH control stick P/N 20094 or P/N 20094/G, terminates the repetitive inspection for that control stick side only. Replacing both control sticks with LH control stick P/N 20093 or P/N 20093/G and RH control stick P/N 20094 or P/N 20094/G terminates the repetitive inspection for both sides.

(3) As of the effective date of this AD, do not install on any glider a control stick that has a P/N other than LH control stick P/N 20093 or P/N 20093/G; or RH control stick P/N 20094 or P/N 20094/G.

(h) Credit for Previous Actions

You may take credit for the action required by paragraph (g)(1) of this AD if you performed those actions before the effective date of this AD using Scheibe Aircraft GmbH Service Bulletin 653-96, dated March 2, 2022.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j)(1) of this AD and email to: 9-AVS-AIR-730-AMOC@faa.gov.

(2) Before using any approved AMOC, notify your appropriate principal inspector, or lacking a principal inspector, the manager of the local flight standards district office/certificate holding district office.

(j) Related Information

(1) For more information about this AD, contact Jim Rutherford, Aviation Safety Engineer, General Aviation & Rotorcraft Section, International Validation Branch, FAA, 901 Locust, Room 301, Kansas City, MO 64106; phone: (816) 329-4165; email: jim.rutherford@faa.gov.

(2) Refer to European Union Aviation Safety Agency (EASA) Emergency AD 2022-0066-E, dated April 11, 2022, for more information. You may examine the EASA AD in the AD docket at https://www.regulations.gov by searching for and locating it in Docket No. FAA-2022-0506.

(3) Service information identified in this AD that is not incorporated by reference is available at the addresses specified in paragraphs (k)(3) and (4) of this AD.

(k) Material Incorporated by Reference

(1) The Director of the Federal Register approved the incorporation by reference of the service information listed in this paragraph under 5 U.S.C. 552(a) and 1 CFR part 51.

(2) You must use this service information as applicable to do the actions required by this AD, unless this AD specifies otherwise.

(i) Scheibe Aircraft GmbH Service Bulletin 653-96/1, dated April 4, 2022.

Note 1 to paragraph (k)(2)(i): Page 4 of this service information is identified as 653-95.

Note 2 to paragraph (k)(2)(i): This service information contains German to English translation. EASA used the English translation in referencing the document from Scheibe Aircraft GmbH. For enforceability purposes, the FAA will cite the service information in English as it appears on the document.

(ii) [Reserved]

(3) For service information identified in this AD, contact Scheibe Aircraft GmbH, Am Flugplatz 5, Heubach, D-73540, Germany; phone: +49 07173 184286; email: info@scheibe-aircraft.de; website: https://scheibe-aircraft.de/.

(4) You may view this service information at the FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: https://www.archives.gov/federal-register/cfr/ibr-locations.html.

Issued on April 22, 2022.
Gaetano A. Sciortino,
Deputy Director for Strategic Initiatives, Compliance & Airworthiness Division, Aircraft Certification Service.

[FR Doc. 2022-09890 Filed 5-4-22; 4:15 pm]

BILLING CODE 4910-13-P